DEPARTMENT OF AGRICULTURE

Grain Inspection, Packers, and Stockyards Administration

Designation for the Pocatello, ID; Lewiston, ID; Evansville, IN; and Utah Areas

AGENCY: Grain Inspection, Packers and Stockyards Administration, USDA.

ACTION: Notice.

SUMMARY: GIPSA is announcing the designation of the following organizations to provide official services under the United States Grain Standards Act, as amended (USGSA): Idaho Grain Inspection Service, Inc. (Idaho); Lewiston Grain Inspection Service, Inc. (Lewiston); Ohio Valley Grain Inspection, Inc. (Ohio Valley); and Utah Department of Agriculture and Food (Utah).

DATES: Effective Date: October 1, 2009.

ADDRESSES: USDA, GIPSA, Karen Guagliardo, Chief, Review Branch, Compliance Division, STOP 3604, Room 1647-S, 1400 Independence Avenue, SW., Washington, DC 20250-3604.

FOR FURTHER INFORMATION CONTACT: Karen Guagliardo at 202-720-7312, e-mail Karen.W.Guagliardo@usda.gov.

Read Applications: All applications and comments will be available for public inspection at the office above during regular business hours (7 CFR 1.27(b)).

SUPPLEMENTARY INFORMATION: In the March 19, 2009, Federal Register (74 FR 11711), GIPSA requested applications for designation to provide official services in the geographic area named above. Applications were due by April 1, 2009.

Idaho, Lewiston, Ohio Valley, and Utah were the sole applicants for designation to provide official services in the areas currently assigned to them, so GIPSA did not ask for additional comments on them.

GIPSA evaluated all available information regarding the designation criteria in section 7(f)(l) of the USGSA (7 U.S.C. 79(f)) and determined Idaho, Lewiston, Ohio Valley, and Utah are able to provide official services in the geographic areas specified in the March 19, 2009, Federal Register, for which they applied. This designation action to provide official services in the specified area is effective October 1, 2009 and terminates on September 30, 2012.

Interested persons may obtain official services by calling the telephone numbers listed below.

Official agency | Headquarters location and telephone | Designation start | Designation end
Idaho | Pocatello, ID (208-233-8303) | 10/1/2009 | 9/30/2012
| Additional Location: Blackfoot, ID
Lewiston | Lewiston, ID (208-746-0451) | 10/1/2009 | 9/30/2012
Ohio Valley | Evansville, IN (812-423-9010) | 10/1/2009 | 9/30/2012
| Additional Location: Hopkinsville, KY
Utah | Salt Lake City, UT (801-392-2292) | 10/1/2009 | 9/30/2012

Section 7(f)(1) of the USGSA authorizes GIPSA's Administrator to designate a qualified applicant to provide official services in a specified area after determining that the applicant is better able than any other applicant to provide such official services (7 U.S.C. 79 (f)(1)).

Under section 7(g)(1) of the USGSA, designations of official agencies are effective for 3 years unless terminated by the Secretary but may be renewed according to the criteria and procedures prescribed in section 7(f) of the Act.

Authority: 7 U.S.C. 71-87k.

J. Dudley Butler,
Administrator, Grain Inspection, Packers and Stockyards Administrator.

[FR Doc. E9-20711 Filed 8-26-09; 8:45 am]

BILLING CODE 3410-KD-P